DEPARTMENT OF LABOR

Pension and Welfare Benefits Administration

[Prohibited Transaction Exemptions 2002-45 & 2022-46; Exemption Application Nos. D-10924 & D-10925]

Deutsche Bank AG (DB) Located in Germany, With Affiliates in New York, NY, and Other Locations & Barclays Global Investors, N.A. (BGI) Located in San Francisco, CA

AGENCY: Pension and Welfare Benefits Administration, U.S. Department of Labor (the Department).

ACTION: Notice of technical correction.

On September 23, 2002, the Department published PTE 2002-45 and PTE 2002-46 in the Federal Register, at 67 FR 59564 and 67 FR 59569, respectively. PTE 2002-45 and PTE 2002-46 permit securities lending to certain DB or BGI affiliates by employee benefit plans for which DB or BGI acts as securities lending agent or subagent.

On page 59567 and 59571, respectively, of the notices granting PTE 2002-45 and PTE 2002-46, the Department hereby corrects the last sentence of subparagraph (p)(2) of Section II to read as follows:

In addition, none of the entities described above are formed for the sole purpose of making loans of securities; and

On page 59567 and 59571, respectively, of the notices granting PTE 2002-45 and PTE 2002-46, the Department hereby inserts the following subparagraph (p)(3) of Section II to read as follows:

(3) In the case of two or more Client Plans invested in a Commingled Fund, whether or not through an entity described in (p)(1) or (p)(2), the $50 million requirement shall be deemed satisfied if 50 percent or more of the units of beneficial interest in such Commingled Fund are held by investors each having total net assets of at least $50 million. Such investors may include Client Plans, entities described in (p)(1) or (p)(2), or other investors that are not employee benefit plans covered by section 406 of ERISA, section 4975 of the Code, or section 8477 of FERSA.

EFFECTIVE DATE: This technical correction to PTE 2002-45 and PTE 2002-46 is effective as of September 23, 2002, the date those exemptions were published in the Federal Register.

FOR FURTHER INFORMATION CONTACT: Gary Lefkowitz or Karen Lloyd of the Department, telephone (202) 693-8540. (This is not a toll-free number).

Signed at Washington, DC, this 8th day of November, 2002.
Ivan Strasfeld,
Director of Exemption Determinations, Pension and Welfare Benefits Administration, U.S. Department of Labor.

[FR Doc. 02-28935 Filed 11-13-02; 8:45 am]

BILLING CODE 4520-29-P